NATIONAL AERONAUTICS AND SPACE ADMINISTRATION

[Notice 00-104]

NASA Advisory Council (NAC), Space Science Advisory Committee (SScAC), Structure and Evolution of the Universe Subcommittee

AGENCY: National Aeronautics and Space Administration.

ACTION: Notice of meeting.

SUMMARY: In accordance with the Federal Advisory Committee Act, Pub. L. 92-463, as amended, the National Aeronautics and Space Administration announces a meeting of the NASD Advisory Council, Space Science Advisory Committee, Structure of Evolution of the Universe Subcommittee.

DATES: Monday, September 25, 2000, 8:30 a.m. to 5:30 p.m., Tuesday, September 26, 2000, 8:30 a.m. to 5 p.m.

ADDRESSES: National Aeronautics and Space Administration, Conference Room 5H 46, 300 E Street, SW., Washington, DC 20546.

FOR FURTHER INFORMATION CONTACT: Dr. Alan Bunner, Code S, National Aeronautics and Space Administration, Washington, DC 20546, (202) 358-2150.

SUPPLEMENTARY INFORMATION: The meeting will be open to the public up to the capacity of the room. The agenda for the meeting is as follows:

• Structure and Evolution of the Universe in Decadal Survey and Enterprise Strategic Plan

• Supernova Acceleration Probe

• Space Station Issues

• Structure and Evolution of the Universe/National Aeronautics and Space Administration Basic Physics Calibrations

It is imperative that the meeting be held on these dates to accommodate the scheduling priorities of the key participants. Visitors will be requested to sign a visitor's register.

Beth M. McCormick,
Advisory Committee Management Officer, National Aeronautics and Space Administration.

[FR Doc. 00-22987 Filed 9-6-00; 8:45 am]

BILLING CODE 7510-01-M